DEPARTMENT OF AGRICULTURE

Submission for OMB Review; Comment Request

March 24, 2011.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Business-Cooperative Service

Title: Rural Business Investment Program, 7 CFR 4290.

OMB Control Number: 0570-0051.

Summary of Collection: Section 6029 of the Farm Security and Rural Investment Act of 2002 (Pub. L. 107-171) amended the Consolidated Farm and Rural Development Act (& U.S.C. 2009cc) by adding “Subtitle H—Rural Business Investment Program (RBIP). The program is a Developmental Venture Capital program for the purpose to promote economic development and the creation of wealth and job opportunities in rural areas and among individuals living in such areas through the licensing of Rural Business Investment Companies with the mission of addressing unmet equity investment needs of small enterprises located in rural areas. USDA and Small Business Administration signed the Economy Act Agreement authorizing SBA to provide “the day to day” management and operation of the RBIP.

Need and Use of the Information: USDA will use the information to determine eligibility for participation in the RBIP and evaluate whether applicants have accomplished the objectives and fulfilled the statutory and regulatory requirements of the RBIP. Without this collection of information USDA would be unable to meet the requirements of the Act and effectively administer the RBIP, ensuring safety and soundness.

Description of Respondents: Business or other for-profit; Not-for-profit Institutions.

Number of Respondents: 1.

Frequency of Responses: Reporting: Quarterly, Annually.

Total Burden Hours: 112.

Charlene Parker,
Departmental Information Collection Clearance Officer.

[FR Doc. 2011-7335 Filed 3-28-11; 8:45 am]

BILLING CODE 3410-XT-P